DEPARTMENT OF THE TREASURY

Internal Revenue Service

26 CFR Part 1

[REG-147290-05]

RIN 1545-BF08

Nuclear Decommissioning Funds

AGENCY: Internal Revenue Service (IRS), Treasury.

ACTION: Notice of proposed rulemaking by cross reference to temporary regulations.

SUMMARY: In the Rules and Regulations section of this issue of the Federal Register, the IRS is issuing temporary regulations under section 468A of the Internal Revenue Code relating to deductions for contributions to trusts maintained for decommissioning nuclear power plants. The temporary regulations reflect changes to the law made by the Energy Policy Act of 2005, and affect most taxpayers that own an interest in a nuclear power plant. The text of the temporary regulations also serves as the text of these proposed regulations.

DATES: Written or electronic comments and requests for a public hearing must be received by March 31, 2008.

ADDRESSES: Send submissions to: CC:PA:LPD:PR (REG-147290-05), room 5203, Internal Revenue Service, PO Box 7604, Ben Franklin Station, Washington, DC 20044. Submissions may be hand delivered Monday through Friday between the hours of 8 a.m. and 4 p.m. to: CC:PA:LPD:PR (REG-147290-05), Courier's Desk, Internal Revenue Service, 1111 Constitution Avenue, NW., Washington, DC, or sent electronically, via the Federal eRulemaking Portal at http://www.regulations.gov/ (IRS REG-147290-05).

FOR FURTHER INFORMATION CONTACT: Concerning the regulations, Patrick S. Kirwan, (202) 622-3110; concerning submissions and to request a hearing, Kelly Banks, (202) 622-7180 (not toll-free numbers).

SUPPLEMENTARY INFORMATION:

Paperwork Reduction Act

The collection of information contained in this notice of proposed rulemaking has been submitted to the Office of Management and Budget for review in accordance with the Paperwork Reduction Act of 1995 (44 U.S.C. 3507(d)). OMB has approved, on a temporary basis, the information collections contained in the cross-referenced temporary rule under control number 1545-2091. Comments on the collection of information should be sent to the Office of Management and Budget, Attn: Desk Officer for the Department of the Treasury, Office of Information and Regulatory Affairs, Washington, DC 20503, with copies to the Internal Revenue Service, Attn: IRS Reports Clearance Officer, SE:W:CAR:MP:T:T:SP, Washington, DC 20224. Comments on the collection of information should be received by February 29, 2008. Comments are specifically requested concerning:

Whether the proposed collection of information is necessary for the proper performance of the functions of the IRS, including whether the information will have practical utility;

The accuracy of the estimated burden associated with the proposed collection of information;

How the quality, utility, and clarity of the information to be collected may be enhanced;

How the burden of complying with the proposed collection of information may be minimized, including through the application of automated collection techniques or other forms of information technology; and

Estimates of capital or start-up costs and costs of operation, maintenance, and purchase of service to provide information.

The collection of information in this proposed regulation is in §§ 1.468A-3T(h), 1.468A-4T, 1.468A-7T, and 1.468A-8T(d). The information collected under § 1.468A-3T(h) is required to evaluate whether the taxpayer has properly determined the schedule of ruling amounts. The information collected under § 1.468A-7T pertains to the initial election to maintain a qualified nuclear decommissioning trust fund. The information collected under § 1.468A-8T(d) is required to evaluate whether the taxpayer has properly determined the schedule of deduction amounts. The collection of information is mandatory. The likely recordkeepers are owners of nuclear power plants.

Estimated total annual recordkeeping burden: 2,500 hours.

The estimated annual burden per recordkeeper varies depending on individual circumstances, with an estimated average of 25 hours.

Estimated number of recordkeepers: 100.

An agency may not conduct or sponsor, and a person is not required to respond to, a collection of information unless it displays a valid control number assigned by the Office of Management and Budget.

Books or records relating to a collection of information must be retained as long as their contents may become material in the administration of any internal revenue law. Generally, tax returns and tax return information are confidential, as required by 26 U.S.C. 6103.

Background

The temporary regulations in the Rules and Regulations section of this issue of the Federal Register contain amendments to 26 CFR part 1 providing regulations under section 468A of the Internal Revenue Code of 1986 (Code). Section 468A was amended by section 1310 of the Energy Policy Act of 2005, Public Law 109-58 (119 Stat. 594).

Explanation of Provisions

The temporary regulations in the Rules and Regulations section of this issue of the Federal Register amend the Income Tax Regulations (26 CFR part 1) under section 468A of the Internal Revenue Code of 1986 (Code). The text of the temporary regulations also serves as the text of these proposed regulations. The preamble to the temporary regulations explains these proposed regulations.

Special Analyses

It has been determined that this notice of proposed rulemaking is not a significant regulatory action as defined in Executive Order 12866. Therefore, a regulatory assessment is not required. It also has been determined that section 553(b) and (d) of the Administrative Procedure Act (5 U.S.C. chapter 5) does not apply to these regulations. It is hereby certified that this regulation will not have a significant economic impact on a substantial number of small entities. The proposed regulations do not impose a collection of information on small entities. Accordingly, a regulatory flexibility analysis is not required. We request comment on the accuracy of this certification. Pursuant to section 7805(f) of the Code, this regulation has been submitted to the Chief Counsel for Advocacy of the Small Business Administration for comment on its impact on small business.

Comments and Requests for a Public Hearing

Before these proposed regulations are adopted as final regulations, consideration will be given to any written comments (a signed original and eight (8) copies) or electronically generated comments that are submitted timely to the IRS. The IRS and Treasury Department generally request comments on the clarity of the proposed rule and how it may be made easier to understand. All comments will be available for public inspection and copying. A public hearing may be scheduled if requested in writing by a person who timely submits comments. If a public hearing is scheduled, notice of the date, time, and place for the hearing will be published in the Federal Register.

Drafting Information

The principal author of these regulations is Patrick S. Kirwan, Office of Associate Chief Counsel (Passthroughs and Special Industries). However, other personnel from the IRS and Treasury Department participated in their development.

List of Subjects in 26 CFR Part 1

Income taxes, Reporting and recordkeeping requirements.

Proposed Amendments to the Regulations

Accordingly, 26 CFR part 1 is proposed to be amended as follows:

PART 1—INCOME TAXES

Paragraph 1. The authority citation for part 1 continues to read in part as follows:

Authority: 26 U.S.C. 7805 * * *

Section 1.468A-5 also issued under 26 U.S.C. 468A(e)(5). * * *

Par. 2. Sections 1.468A-0 through 1.468A-9 are added to read as follows:

§ 1.468A-0 Table of contents.

[The text of this proposed section is the same as the text of § 1.468A-0T published elsewhere in this issue of the Federal Register.]

§ 1.468A-1 Nuclear decommissioning costs; general rules.

[The text of this proposed section is the same as the text of § 1.468A-1T published elsewhere in this issue of the Federal Register.]

§ 1.468A-2 Treatment of electing taxpayer.

[The text of this proposed section is the same as the text of § 1.468A-2T published elsewhere in this issue of the Federal Register.]

§ 1.468A-3 Ruling amount.

[The text of this proposed section is the same as the text of § 1.468A-3T published elsewhere in this issue of the Federal Register.]

§ 1.468A-4 Treatment of nuclear decommissioning fund.

[The text of this proposed section is the same as the text of § 1.468A-4T published elsewhere in this issue of the Federal Register.]

§ 1.468A-5 Nuclear decommissioning fund—miscellaneous provisions.

[The text of this proposed section is the same as the text of § 1.468A-5T published elsewhere in this issue of the Federal Register.]

§ 1.468A-6 Disposition of an interest in a nuclear power plant.

[The text of this proposed section is the same as the text of § 1.468A-6T published elsewhere in this issue of the Federal Register.]

§ 1.468A-7 Manner of and time for making election.

[The text of this proposed section is the same as the text of § 1.468A-7T published elsewhere in this issue of the Federal Register.]

§ 1.468A-8 Special transfers to qualified funds pursuant to section 468A(f).

[The text of this proposed section is the same as the text of § 1.468A-8T published elsewhere in this issue of the Federal Register.]

§ 1.468A-9 Effective/applicability date and transitional rules.

[The text of this proposed section is the same as the text of § 1.468A-9T(a) and (b) published elsewhere in this issue of the Federal Register.]

Kevin M. Brown,
Deputy Commissioner for Services and Enforcement.

[FR Doc. E7-25222 Filed 12-28-07; 8:45 am]

BILLING CODE 4830-01-P